COUNCIL OF THE INSPECTORS GENERAL ON INTEGRITY AND EFFICIENCY

Senior Executive Service Performance Review Board Membership; correction

AGENCY: Council of the Inspectors General on Integrity and Efficiency (CIGIE).

ACTION: Notice; correction.

SUMMARY: CIGIE published a document in the Federal Register of Friday, October 1, 2021, setting forth the names and titles of the current membership of the CIGIE Performance Review Board. The information contained in the document was outdated.

FOR FURTHER INFORMATION CONTACT: Individual Offices of Inspectors General at the telephone numbers listed below.

DATES: October 1, 2021.

SUPPLEMENTARY INFORMATION:

Correction

In the Federal Register of Friday, October 1, 2021 in FR Doc. 2021-21383, pages 54438 through 54442, the information in its entirety was outdated. The current information is provided below.

I. Background

The Inspector General Act of 1978, as amended, created the Offices of Inspectors General as independent and objective units to conduct and supervise audits and investigations relating to Federal programs and operations. The Inspector General Reform Act of 2008, established the Council of the Inspectors General on Integrity and Efficiency (CIGIE) to address integrity, economy, and effectiveness issues that transcend individual Government agencies; and increase the professionalism and effectiveness of personnel by developing policies, standards, and approaches to aid in the establishment of a well-trained and highly skilled workforce in the Offices of Inspectors General. The CIGIE is an interagency council whose executive chair is the Deputy Director for Management, Office of Management and Budget, and is comprised principally of the 75 Inspectors General (IGs).

II. CIGIE Performance Review Board

Under 5 U.S.C. 4314(c)(1)-(5), and in accordance with regulations prescribed by the Office of Personnel Management, each agency is required to establish one or more Senior Executive Service (SES) performance review boards. The purpose of these boards is to review and evaluate the initial appraisal of a senior executive's performance by the supervisor, along with any recommendations to the appointing authority relative to the performance of the senior executive. The current members of the Council of the Inspectors General on Integrity and Efficiency Performance Review Board, as of October 1, 2021, are as follows:

Agency for International Development

Phone Number: (202) 712-1150

CIGIE Liaison—Thomas Ullom (202) 712-1150

Thomas Ullom—Deputy Inspector General and Acting Inspector General.

Nicole Angarella—General Counsel to the Inspector General.

Justin Brown—Counselor to the Inspector General (SL).

Suzann Gallaher—Assistant Inspector General for Investigations.

Marc Meyer—Deputy Assistant Inspector General for Investigations.

Thomas Yatsco—Assistant Inspector General for Audit.

Alvin A. Brown—Deputy Assistant Inspector General for Audit.

Toayoa Aldridge—Deputy Assistant Inspector General for Audit.

Sabrina Ferguson-Ward—Assistant Inspector General for Management.

Willie (Will) Young—Deputy Assistant Inspector General for Management.

Department of Agriculture

Phone Number: (202) 720-8001

CIGIE Liaison—Angel N. Bethea (202) 720-8001

Ann M. Coffey—Deputy Inspector General.

Christy A. Slamowitz—Counsel to the Inspector General.

Gilroy Harden—Assistant Inspector General for Audit.

Steven H. Rickrode, Jr.—Deputy Assistant Inspector General for Audit.

Yarisis Rivera Rojas—Deputy Assistant Inspector General for Audit.

Kevin Tyrrell—Assistant Inspector General for Investigation.

Peter P. Paradis, Sr.—Deputy Assistant Inspector General for Investigations.

Virginia E. B. Rone—Assistant Inspector General for Analytics and Innovation.

Department of Commerce

Phone Number: (202) 280-8374

CIGIE Liaison—Jacqueline G. Ruley (202) 280-8374

Roderick M. Anderson—Deputy Inspector General.

Richard L. Bachman—Assistant Inspector General for Audit and Evaluation.

E. Wade Green—Counsel to the Inspector General.

Robert O. Johnston, Jr.—Chief of Staff.

Scott M. Kieffer—Assistant Inspector General for Investigations.

Frederick J. Meny—Assistant Inspector General for Audit & Evaluation.

Arthur L. Scott, Jr.—Assistant Inspector General for Audit and Evaluation.

Mark H. Zabarsky—Principle Assistant Inspector General for Audit and Evaluation.

Council of the Inspectors General on Integrity and Efficiency

Phone Number: (202) 292-2600

CIGIE Liaison—Denise Mangra (202) 292-2604

Alan F. Boehm—Executive Director.

Douglas Holt—Executive Director CIGIE Training Institute.

Department of Defense

Phone Number: (703) 604-8324

Acting CIGIE Liaison—Brett Mansfield (703) 604-8300

Daniel R. Blair—Deputy Chief of Staff.

Leo J. Fitzharris IV—Assistant IG for Strategic Planning and Performance.

Marguerite C. Garrison—Deputy Inspector General for Administrative Investigations.

Carol N. Gorman—Assistant Inspector General for Readiness and Cyber Operations.

Paul Hadjiyane—General Counsel.

Theresa S. Hull—Assistant Inspector General for Acquisition and Sustainment Management.

James R. Ives—Deputy Inspector General for Overseas Contingency Operations.

Kelly P. Mayo—Deputy Inspector General for Investigations.

Troy M. Meyer—Principal Assistant Inspector General for Audit.

Michael J. Roark—Deputy Inspector General for Evaluations.

Steven A. Stebbins—Chief of Staff.

Paul K. Sternal—Assistant Inspector General for Investigations/Investigative Ops.

Randolph R. Stone—Assistant Inspector General for Space, Intelligence, Engineering and Oversight.

Richard B. Vasquez—Assistant Inspector General for Readiness & Global Operations.

Lorin T. Venable—Assistant Inspector General for Financial Management and Reporting.

David G. Yacobucci—Assistant Inspector General for Data Analytics.

Michael C. Zola—Assistant Inspector General for Legislative Affairs & Communications.

Department of Education

Phone Number: (202) 245-6900

CIGIE Liaison—Catherine Grant (202) 245-7023

Bryon Gordon—Assistant Inspector General for Audit.

Sean Dawson—Deputy Assistant Inspector General for Audit.

Aaron Jordan—Assistant Inspector General for Investigations.

Shafee Carnegie—Deputy Assistant Inspector General for Investigations.

Robert Mancuso—Assistant Inspector General for Information Technology Audits and Computer Crime Investigations.

Kevin Young—Deputy Assistant Inspector General for Assistant Inspector General for Information Technology Audits and Computer Crime Investigations.

Francine Hines—Assistant Inspector General for Management Services.

Antigone Potamianos—Counsel to the Inspector General.

Department of Energy

Phone Number: (202) 586-4393

CIGIE Liaison—Ryan Cocolin (202) 586-8672

Jennifer Quinones—Deputy Inspector General.

Nicholas Acker—Counsel to the Inspector General.

Virginia Grebasch—Senior Counsel, FOIA and Privacy Act Officer.

Travis Farris—Special Counsel for Administrative Remedies.

Charles Sabatos—Assistant Inspector General for Management and Administration.

Lewe Sessions—Assistant Inspector General for Investigations.

Kenneth Dieffenbach—Deputy Inspector General for Investigations.

Sarah Nelson—Assistant Inspector General for Technology, Financial and Analytics.

Earl Omer—Assistant Inspector General for Audits.

Jack Rouch—Deputy Assistant Inspector General for Audits.

John McCoy II—Deputy Assistant Inspector General for Audits.

Anthony Cruz—Assistant Inspector General for Inspections, Intelligence Oversight, and Special Projects.

Environmental Protection Agency

CIGIE Liaison—Jennifer Kaplan (202) 566-0918

Charles Sheehan—Deputy Inspector General.

Edward Shields—Associate Deputy Inspector General.

Mary Katherine Trimble—Assistant Inspector General for Audit and Evaluation.

Laura Nicolosi—Principal Deputy Assistant Inspector General for Audit and Evaluation.

M. Benjamin May—Counsel.

Equal Employment Opportunity Commission

Phone Number: 1-800-849-4230

CIGIE Liaison—Joyce T. Willoughby (202) 921-3138

Milton A. Mayo, Jr.—Inspector General.

Federal Labor Relations Authority

Phone Number: (202) 218-7744

CIGIE Liaison—Dana Rooney (202) 218-7744

Dana Rooney—Inspector General.

Federal Maritime Commission

Phone Number: (202) 523-5863

CIGIE Liaison—Jon Hatfield (202) 523-5863

Jon Hatfield—Inspector General.

Federal Trade Commission

Phone Number: (202) 326-2355

CIGIE Liaison—Andrew Katsaros (202) 326-2355

Andrew Katsaros—Inspector General.

General Services Administration

Phone Number: (202) 501-0450

CIGIE Liaison—Phyllis Goode (202) 273-7270

Robert C. Erickson—Deputy Inspector General.

Larry L. Gregg—Associate Inspector General.

Edward Martin—Counsel to the Inspector General.

R. Nicholas Goco—Assistant Inspector General for Audits.

Barbara Bouldin—Deputy Assistant Inspector General for Acquisition Program Audits.

Brian Gibson—Deputy Assistant Inspector General for Real Property Audits.

James E. Adams—Assistant Inspector General for Investigations.

Patricia D. Sheehan—Assistant Inspector General for Inspections.

Kristine Preece—Assistant Inspector General for Administration.

Department of Health and Human Services

Phone Number: (202) 619-3148

CIGIE Liaison—Elise Stein (202) 619-2686

Juliet Hodgkins—Acting Chief of Staff.

Robert Owens, Jr.—Deputy Inspector General for Management and Policy.

Gerald Caron III—Assistant Inspector General/Chief Information Officer.

Gregg Treml—Assistant Inspector General/Deputy Chief Financial Officer.

Gary Cantrell—Deputy Inspector General for Investigations.

Elton Malone—Assistant Inspector General for Investigations.

Christian Schrank—Assistant Inspector General for Investigations.

Suzanne Murrin—Deputy Inspector General for Evaluation and Inspections.

Erin Bliss—Assistant Inspector General for Evaluation and Inspections.

Ann Maxwell—Assistant Inspector General for Evaluation and Inspections.

Gregory Demske—Chief Counsel to the Inspector General.

Robert DeConti—Assistant Inspector General for Legal Affairs.

Lisa Re—Assistant Inspector General for Legal Affairs.

Amy Frontz—Deputy Inspector General for Audit Services.

Tamara Lilly—Assistant Inspector General for Audit Services.

Department of Homeland Security

Phone Number: (202) 981-6000

CIGIE Liaison—E. William Baxter (202) 321-4357

Kristen Bernard—Assistant Inspector General for Information Technology Audits.

Jordan Gottfried—Assistant Inspector General for Management.

Department of Housing and Urban Development

Phone Number: (202) 708-0430

CIGIE Liaison—Michael White (202) 402-8410

Charles Jones—Senior Advisor for External Affairs.

Fara Damelin—Chief of Staff.

Kimberly Randall—Deputy Assistant Inspector General for Audit.

Kilah White—Assistant Inspector General for Audit.

Kudawashe Ushe—Chief Information Officer.

Maura Malone—Counsel to the Inspector General.

Brian Pattison—Assistant Inspector General for Evaluation.

Matthew Harris—Deputy Assistant Inspector General for Investigation.

Jacquelyn Phillips—Chief Strategy Officer.

Stephen Begg—Deputy Inspector General.

International Development Finance Corporation

Phone Number: (202) 408-6246

CIGIE Liaison—Gladis Griffith (202) 408-8562

Anthony Zakel—Inspector General (SL).

Gladis Griffith—Deputy Inspector General & General Counsel (SL).

John Warren—Assistant Inspector General of Investigations (SL).

Darrell Benjamin—Assistant Inspector General of Audits (SL).

Department of the Interior

Phone Number: (202) 208-5635

CIGIE Liaison—Karen Edwards (202) 208-5635

Caryl Brzymialkiewicz—Deputy Inspector General.

Matthew Elliott—Assistant Inspector General for Investigations.

Edward “Ted” Baugh—Deputy Assistant Inspector General for Investigations.

Bruce Delaplaine—General Counsel.

Stephen Hardgrove—Assistant Inspector General for Strategic Programs.

Jorge Christian—Assistant Inspector General for Management.

Department of Justice

Phone Number: (202) 514-3435

CIGIE Liaison—John Lavinsky (202) 514-3435

William M. Blier—Deputy Inspector General.

Jonathan M. Malis—General Counsel.

Michael Sean O'Neill—Assistant Inspector General for Oversight and Review.

Patricia A. Sumner—Deputy Assistant Inspector General for Oversight and Review.

Jason R. Malmstrom—Assistant Inspector General for Audit.

Mark L. Hayes—Deputy Assistant Inspector General for Audit.

Sarah E. Lake—Assistant Inspector General for Investigations.

Sandra D. Barnes—Deputy Assistant Inspector General for Investigations.

Donald L. Kyzar—Assistant Inspector General for Information Technology Division.

Rene L. Lee—Assistant Inspector General for Evaluation and Inspections.

Gregory T. Peters—Assistant Inspector General for Management and Planning.

Cynthia Sjoberg Radway—Deputy Assistant Inspector for Management and Planning.

Department of Labor

Phone Number: (202) 693-5100

CIGIE Liaison—Luiz A. Santos (202) 693-7062

Larry D. Turner—Deputy Inspector General (Acting Inspector General).

Dee Thompson—Counsel to the Inspector General.

Carolyn Ramona Hantz—Assistant Inspector General for Audit.

Ray Armada—Deputy Assistant Inspector General for Audit.

Michael C. Mikulka—Assistant Inspector General for Investigations—Labor Racketeering and Fraud.

James D. Powell—Deputy Assistant Inspector General for Investigations—Labor Racketeering and Fraud.

Tara A. Porter—Assistant Inspector General for Management and Policy.

Claudette L. Fogg-Castillo—Deputy Assistant Inspector General for Management and Policy.

Thomas D. Williams—Chief Technology Officer.

Luiz A. Santos—Assistant Inspector General for Congressional and Public Relations.

Jessica Southwell—Chief Performance and Risk Management Officer.

National Aeronautics and Space Administration

Phone Number: (202) 358-1220

CIGIE Liaison—Renee Juhans (202) 358-1712

George A. Scott—Deputy Inspector General.

Frank LaRocca—Counsel to the Inspector General.

Kimberly F. Benoit—Assistant Inspector General for Audits.

Ross W. Weiland—Assistant Inspector General for Management Planning.

National Archives and Records Administration

Phone Number: (301) 837-3000

CIGIE Liaison—John Simms (301) 837-3000

Brett Baker—Inspector General.

Jewel Butler—Assistant Inspector General for Audit.

Jason Metrick—Assistant Inspector General for Investigations.

National Labor Relations Board

Phone Number: (202) 273-1960

CIGIE Liaison—Robert Brennan (202) 273-1960

David P. Berry—Inspector General.

National Science Foundation

Phone Number: (703) 292-7100

CIGIE Liaison—Lisa Vonder Haar (703) 292-2989

Megan Wallace—Assistant Inspector General for Investigations.

Mark Bell—Assistant Inspector General for Audits.

Ken Chason—Counsel to the Inspector General.

Nuclear Regulatory Commission

Phone Number: (301) 415-5930

CIGIE Liaison—Christine Arroyo (301) 415-0526

Malion Bartley, Assistant Inspector General for Investigations.

Office of Personnel Management

Phone Number: (202) 606-1200

CIGIE Liaison—Faiza Mathon-Mathieu (202) 606-2236

Norbert E. Vint—Deputy Inspector General/Deputy Inspector General Performing the Duties of the Inspector General.

Michael R. Esser—Assistant Inspector General for Audits.

Melissa D. Brown—Deputy Assistant Inspector General for Audits.

Lewis F. Parker, Jr.—Deputy Assistant Inspector General for Audits.

Drew M. Grimm—Assistant Inspector General for Investigations.

James L. Ropelewski—Assistant Inspector General for Management.

Nicholas E. Hoyle—Deputy Assistant Inspector General for Management.

Paul St. Hillaire—Assistant Inspector General for Legal and Legislative Affairs.

Robin A. Thottungal—Chief Information Technology Officer.

Special Inspector General for Pandemic Recovery

Phone Number: (202) 923-7782

CIGIE Liaison—Sarah Breen (202) 923-7782

Theodore R. Stehney—Assistant Inspector General for Auditing.

Michael T. Ryan—Assistant Inspector General for Investigations.

Peace Corps

Phone Number: (202) 692-2900

CIGIE Liaison—Joaquin Ferrao (202) 692-2921

Kathy Buller—Inspector General (Foreign Service).

Joaquin Ferrao—Deputy Inspector General and Legal Counsel (Foreign Service).

United States Postal Service

Phone Number: (703) 248-2100

CIGIE Liaison—Agapi Doulaveris (703) 248-2286

Elizabeth Martin—General Counsel.

Mark Duda—Assistant Inspector General for Mission Support/Chief Financial Officer.

Railroad Retirement Board

Phone Number: (312) 751-4690

CIGIE Liaison—Jill Roellig (312) 751-4993

Patricia A. Marshall—Deputy Inspector General and Counsel to the Inspector General.

Debra Stringfellow-Wheat—Assistant Inspector General for Audit.

Paul Palumbo—Assistant Inspector General for Investigations.

Small Business Administration

Phone Number: (202) 401-0753

CIGIE Liaison—Mary Kazarian (202) 205-6586

Brian Grossman—Assistant Inspector General for Investigations.

Andrea Deadwyler—Assistant Inspector General for Audits.

Sheldon Shoemaker—Assistant Inspector General for Management and Operations.

Social Security Administration

Phone Number: (410) 966-8385

CIGIE Liaison—Craig Meklir (443) 316-7922

Benjamin S. Alpert—Deputy Inspector General.

B. Chad Bungard—Chief of Staff/Chief Strategy Officer (Acting).

Jennifer Walker—Assistant Inspector General for Investigations.

Sotiris Planzos—Chief Investigative Counsel.

Kevin Huse—Deputy Assistant Inspector General for Investigations.

Donald Jefferson—Deputy Assistant Inspector General for Investigations.

Mark Franco—Deputy Assistant Inspector General for Investigations.

Michelle L. Anderson—Assistant Inspector General for Audit.

Jeffrey Brown—Deputy Assistant Inspector General for Audit.

Michael Arbuco—Assistant Inspector General of Information Technology.

Adriana Menchaca-Gendron—Assistant Inspector General of Resource Management.

Andrew Cannarsa—Deputy Assistant Inspector General of Resource Management.

Michelle M. Murray—Chief Counsel to the Inspector General.

Special Inspector General for the Troubled Asset Relief Program

Phone Number: (202) 622-1419

CIGIE Liaison—Melissa Bruce (202) 617-4238

Melissa Bruce—Principal Deputy Special Inspector General.

Thomas Jankowski—Deputy Inspector General for Investigations.

Gabriele Tonsil—Acting Deputy Inspector General for Audits.

Department of State and the U.S. Agency for Global Media

Phone Number: (571) 348-3804

CIGIE Liaison—Mark Huffman (571) 348-4881

Diana R. Shaw—Deputy Inspector General.

Parisa Salehi—Chief of Staff.

Norman P. Brown—Assistant Inspector General for Audits.

Sandra J. Lewis—Assistant Inspector General for Inspections.

Matthew Tuchow—General Counsel.

Kevin S. Donohue—Deputy General Counsel.

Gayle L. Voshell—Deputy Assistant Inspector General for Audits.

Beverly J.C. O'Neill—Deputy Assistant Inspector General for Audits, Middle East Region Operations.

Lisa R. Rodely—Deputy Assistant Inspector General for Inspections.

Arne Baker—Deputy Assistant Inspector General for Inspections.

Robert J. Smolich—Deputy Assistant Inspector General for Investigations.

Connie Yates—Deputy Assistant Inspector General for Administration.

Jeffrey McDermott—Assistant Inspector General for Evaluations and Special Projects.

Nicole S. Mathis—Deputy Assistant Inspector General for Evaluations and Special Projects.

Department of Transportation

Phone Number: (202) 366-1959

CIGIE Liaison—Nathan P. Richmond: (202) 493-0422

Mitchell L. Behm—Deputy Inspector General.

M. Elise Chawaga—Principal Assistant Inspector General for Investigations.

Barry DeWeese—Principal Assistant Inspector General for Auditing and Evaluation.

Matthew E. Hampton—Assistant Inspector General for Aviation Audits.

Mary Kay Langan-Feirson—Assistant Inspector General for Acquisition and Procurement Audits.

Susan Ocampo—Deputy Assistant Inspector General for Investigations.

Omer Poirier—Chief Counsel.

David Pouliott—Deputy Assistant Inspector General for Surface Transportation Audits.

Amanda Seese—Assistant Inspector General for Strategic Communications and Programs.

Charles A. Ward—Assistant Inspector General for Audit Operations and Special Reviews.

Department of the Treasury

Phone Number: (202) 622-1090

CIGIE Liaison—Rich Delmar (202) 927-3973

Richard K. Delmar—Acting Inspector General.

Jeffrey Lawrence—Assistant Inspector General for Management.

Sally Luttrell—Assistant Inspector General for Investigations.

Deborah L. Harker—Assistant Inspector General for Audit.

Pauletta Battle—Deputy Assistant Inspector General for Financial Management and Transparency Audits.

Susan L. Barron—Deputy Assistant Inspector General for Financial Sector Audits.

Donna F. Joseph—Deputy Assistant Inspector General for Cyber and Financial Assistance Audits.

Treasury Inspector General for Tax Administration/Department of the Treasury

Phone Number: (202) 622-6500

CIGIE Liaison—David Barnes (Acting) (202) 622-3062

Gladys Hernandez—Chief Counsel.

Lori Creswell—Deputy Chief Counsel.

Mervin Hyndman—Deputy Inspector General for Mission Support/Chief Financial Officer.

Richard Varn II—Chief Information Officer.

Trevor Nelson—Acting Deputy Inspector General for Investigations.

Heather Hill—Deputy Inspector General for Inspections and Evaluations.

Michael McKenney—Deputy Inspector General for Audit.

Nancy LaManna—Assistant Inspector General for Audit, Management, Planning, and Workforce Development.

Russell Martin—Assistant Inspector General for Audit, Returns Processing, and Accounting Services.

Danny Verneuille—Assistant Inspector General for Audit, Security, and Information Technology Services.

Matthew Weir—Assistant Inspector General for Audit, Compliance, and Enforcement Operations.

Edward Currie—Acting Assistant Inspector General for Investigations—Special Investigations and Support Directorate.

Susan Moats—Assistant Inspector General for Investigations—Field Operations.

Derek Anderson—Deputy Assistant Inspector General for Investigations—Field Operations.

Department of Veterans Affairs

Phone Number: (202) 461-4603

CIGIE Liaison—Brady Beckham (202) 461-9376

David Case—Deputy Inspector General.

John D. Daigh—Assistant Inspector General for Healthcare Inspections.

Julie Kroviak—Deputy Assistant Inspector General for Healthcare Inspections.

Gopala Seelamneni—Deputy Assistant Inspector General for Management and Administration/Chief Technology Officer.

Kathrine Smith—Assistant Inspector General for Special Reviews.

Dated: October 4, 2021.
Alan F. Boehm,
Executive Director.

[FR Doc. 2021-21888 Filed 10-6-21; 8:45 am]

BILLING CODE 6820-C9-P